DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

The Burlington Northern and Santa Fe Railway Company

[Waiver Petition Docket Number FRA-2000-7926]

The Burlington Northern and Santa Fe Railway Company (BNSF) seeks a waiver of compliance from the provisions of the Track Safety Standards, 49 CFR section 213.55, regarding the allowable deviations from uniformity of track alinement. There are 2191 track miles on BNSF where the maximum allowable passenger train speed is 80 mph or less and the corresponding freight train speed is between 61 and 70 mph. Pursuant to 49 CFR section 213.9(a) of the Track Safety Standards, the allowable freight train speeds subject these locations to FRA Class 5 standards.

BNSF is petitioning for a waiver which would establish intermediate values for allowable alinement deviations over the 2191 track miles in question. The intermediate values would be more restrictive than those prescribed for FRA Class 4 track, but less restrictive than those prescribed for FRA Class 5 track. The petitioner cites the fact that the allowable freight train speeds are at the lower end of the Class 5 speed regime, and the existence of various operating restrictions which closely control freight train speeds within the 61 to 70 mph range, as arguments in favor of relief. The petitioner also states there have been no reportable or non-reportable derailments attributed to irregular alinement over these 2191 miles in the past five years.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 2000-7926) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9:00 a.m.-5:00 p.m.) at the above facility. All documents in the public docket are also available for inspection and copying on the Internet at the docket facility's web site at http://dms.dot.gov.

Issued in Washington, DC on November 16, 2000.
Grady C. Cothen, Jr.,
Deputy Associate Administrator for Safety Standards and Program Development.

[FR Doc. 00-29904 Filed 11-21-00; 8:45 am]

BILLING CODE 4910-06-P